DEPARTMENT OF HEALTH AND HUMAN SERVICES

National Institutes of Health

Office of the Secretary; Notice of Meeting

Pursuant to section 1009 of the Federal Advisory Committee Act, as amended, notice is hereby given of a meeting of the Muscular Dystrophy Coordinating Committee.

The meeting will be open to the public, with attendance limited to space available. Individuals who plan to attend and need special assistance, such as sign language interpretation or other reasonable accommodations, should notify the Contact Person listed below in advance of the meeting. The meeting can be viewed on the NIH Videocasting website, https://videocast.nih.gov/. Registration is not required.

Name of Committee: Muscular Dystrophy Coordinating Committee.

Date: December 22, 2025.

Time: 10:00 a.m. to 3:00 p.m.

Agenda: The purpose of this meeting is to bring together committee members, representing government agencies, patient advocacy groups and people with lived experience to discuss topics of interest to the muscular dystrophy communities. The agenda for this meeting features panel discussions inviting industry leaders to comment on priorities for the Action Plan, the MDCC's ten-year strategic plan for research and other strategies to improve the lives of people living with muscular dystrophies. The agenda for this meeting is available on the MDCC website: https://www.mdcc.nih.gov/.

Address: National Institutes of Health, Neuroscience Center, 6001 Executive Boulevard, Rockville, MD 20852.

Meeting Format: Virtual Meeting.

Contact Person: Glen Nuckolls, Ph.D., Program Director, National Institute of Neurological Disorders and Stroke (NINDS), NIH NSC Building, 6001 Executive Blvd. Bethesda, MD 20892, 301-496-5876, nuckollg@ninds.nih.gov.

Any interested person may file written comments with the committee by forwarding the statement to the Contact Person listed on this notice. The statement should include the name, address, telephone number and when applicable, the business or professional affiliation of the interested person.

Dated: November 25, 2025,
Rosalind M. Niamke,
Program Analyst,Office of Federal Advisory Committee Policy.

[FR Doc. 2025-21600 Filed 11-28-25; 8:45 am]

BILLING CODE 4140-01-P